FEDERAL HOUSING FINANCE BOARD

Sunshine Act; Meeting

Announcing an Open Meeting of the Board

Time and Date: 10 a.m., Wednesday, May 8, 2002.

Place: Board Room, Second Floor, Federal Housing Finance Board. 1777 F Street, NW., Washington, DC 20006.

Status: The entire meeting will be open to the public.

Matter to Be Considered During Portions Open to the Public:

• Federal Home Loan Bank of Boston Capital Plan

• Federal Home Loan Bank of Pittsburgh Capital Plan

• Final Rule Amending the Definition of “Non-Mortgage Assets” for Purposes of the Leverage Limit Requirement of Section 966.3 of the Regulations

• Appointment of Public Interest Director

CONTACT PERSON FOR MORE INFORMATION: Elaine L. Baker, Secretary to the Board, (202) 408-2837.

James L. Bothwell,
Managing Director.

[FR Doc. 02-10979 Filed 4-30-02; 10:14 am]

BILLING CODE 6725-01-P